DEPARTMENT OF TRANSPORTATION

Federal Transit Administration

Preparation of an Environmental Impact Statement on the Expansion of Metropolitan Atlanta Rapid Transit Authority Transit Service From Hamilton E. Holmes Station in the City of Atlanta, Georgia to Fulton Industrial Boulevard in Fulton County, GA

AGENCY: Federal Transit Administration (FTA), Department of Transportation (DOT).

ACTION: Notice of intent to prepare an environmental impact statement.

SUMMARY: The Federal Transit Administration (FTA), in cooperation with the Metropolitan Atlanta Rapid Transit (MARTA), is issuing this notice to advise interested agencies and the public that, in accordance with National Environmental Policy Act (NEPA), an Environmental Impact Statement (EIS) will be prepared for an expansion of transit services westward from MARTA's Hamilton E. Holmes Station on its West Line to a logical terminus on Fulton Industrial Boulevard. Identified by MARTA's Board of Directors as the top priority for expansion of services, possible rail extensions and other types of transit service are outlined in MARTA's “Three Corridor Feasibility Study” (August 2000). As a part of an Alternatives Analysis and the ensuing EIS, the benefits and impacts of eighteen individual alternatives, including a no-build or no-action alternative, a transportation system management (TSM) alternative (also called New Starts Baseline alternative) and several build alternatives, will be examined. Scoping will be accomplished through coordination with interested persons, organizations, and federal, state and local agencies. FTA is serving as the federal lead agency for the project in anticipation of a grant application from MARTA for its construction through the Federal Section 5309 New Starts Program. Based on the results of the scoping process, FTA will establish the scope of the environmental review under NEPA, including the identification of environmental issues and effects to be addressed and reasonable alternatives to be retained for detailed evaluation. If a need to expand the study area west into Cobb and Douglas County can be demonstrated during the scoping process and if a project sponsor other than MARTA can be identified for that portion of the project, this NEPA undertaking will be accordingly augmented.

DATES: Interagency and public scoping and information meetings will be held on the following dates at the locations indicated:

• Interagency Scoping Meeting: Wednesday, November 13, 2002 from 10 AM to 12 Noon, at the URS Corporation Offices at 235 Peachtree St., NE, Suite 2000—North Tower, Atlanta, Georgia 30324.

• Public Scoping Meetings:

—Tuesday, November 19, 2002 from 6 pm to 8:30 pm, at the Peyton Forest Elementary School Gymnasium, 301 Peyton Road, SW, Atlanta Georgia 30311.

—Thursday, November 21, 2002 from 11:30 am to 2 pm, at the Comfort Inn, Meeting Room, 4330 Fulton Industrial Boulevard, SW, Atlanta, GA 30336.

—Thursday, November 21, 2002 from 6 am to 8:30 pm, at the Peyton Forest Elementary School Gymnasium, 301 Peyton Road, SW, Atlanta Georgia 30311.

—Written Comments: on the scope of the environmental study are welcome and should be sent by December 20, 2002 to Connie Cannon, Project Manager, MARTA, 2424 Piedmont Street, Atlanta, Georgia 30324. Comments can also be emailed to westline.comments@itsmarta.com.

ADDRESSES: The addresses where scoping meetings will be held and where comments on the scope of study may be sent appear above in the DATES Section. A scoping booklet is available from Connie Cannon, Project Manager, MARTA, 2424 Piedmont Street NE, Atlanta, Georgia 30324 or by accessing the project Web site at www.itsmarta.com.

FOR FURTHER INFORMATION CONTACT: Tony Dittmeier, Transportation Program Specialist, Federal Transit Administration, Region IV Office, telephone 404.562.3512 or Connie Cannon, MARTA, 2424 Piedmont Street NE, Atlanta, Georgia 30324.

SUPPLEMENTARY INFORMATION:

I. Scoping

MARTA will hold interagency and public scoping meetings as presented in the DATES section above. At these meetings, MARTA will present preliminary results of an Alternatives Analysis and the alternatives proposed for detailed evaluation in the EIS. At the public meetings, interested persons will have an opportunity to speak individually with a MARTA representative. In addition, representatives will be available to receive written and record verbal comments on the scope of the NEPA review. All scoping meeting locations are accessible to persons with disabilities. Individuals who require special accommodations, such as a sign language interpreter, to participate in the meeting should contact Ms. Rosalyn V. Green, ADA Compliance Officer, MARTA, 2424 Piedmont Rd. NE, Atlanta, Georgia 30324 or by telephone at (404) 848-4800, TDD at (404) 848-5665 or TTY (404) 848-4931. Interested individuals, organizations, and public agencies are invited to attend the scoping meetings and participate in identifying any important environmental impact issues related to the proposed alternatives and suggesting alternatives which would be more economical or would have less environmental impact while achieving similar transportation objectives. An information packet, referred to as the Scoping Booklet, will be distributed to all public agencies and interested individuals and will be available at the meetings. Others may request the Scoping Booklet by contacting Brian Piascik at the address listed above in ADDRESSES. Anyone wishing to be placed on the project mailing list to receive meeting notices and further information as the project develops should also contact Connie Cannon at the address listed in ADDRESSES or call the project information line (404) 589-0929. Comments during the scoping period should focus on identifying the social, economic, and environmental concerns associated with the proposed action, and alternatives that deserve consideration, and not on a preference for a particular alternative. Comments regarding preference for a particular alternative may be submitted during subsequent public meetings or at a hearing on the Draft Environmental Impact Statement, when it is published. Scoping comments may be made at the scoping meetings or may be directed in writing to Connie Cannon, Project Manager, at the address given in ADDRESSES.

II. Description of the Project Area and Transportation Need

MARTA has identified an expansion of the West Line Transit Service as a top priority for meeting the travel needs within the Atlanta area. MARTA's long-range planning efforts identified resources to begin the required planning, environmental and design activities. MARTA has recently conducted preliminary activities to develop an aggressive, yet realistic plan for completing the required activities leading to the project's implementation. The current project, as included in the Atlanta Regional Commission's (ARC) Regional Transportation Plan (RTP), includes transit services beyond the MARTA West Line from the Hamilton E. Holmes Station to Fulton Industrial Boulevard. A new station is proposed near I-20 at Fulton Industrial Boulevard and a potential second station may be considered in the vicinity of Martin Luther King, Jr. Drive and Fairburn Road. MARTA has previously completed preliminary studies on the project.

In MARTA's previous work, several alignment options, technologies and station locations were identified and will be the subject of continued study. The West Line corridor parallels I-20, which is an identified congested facility in ARC's Congestion Management System (CMS). The CMS identifies I-20 as congested from I-285 to SR 5, serving approximately 140,000 vehicles per day. The primary congestion occurs eastbound during the morning peak period and westbound during the afternoon peak period.

MARTA's Three Corridors Feasibility Study demonstrated substantial mobility benefits of the proposed West Line extension. This previous evaluation demonstrated significant new transit trips as a result of the build alternative. Trips from outside the I-285 perimeter destined to Atlanta would be particularly well served by the project. The travel forecasts predicted over 13,800 daily transit boardings at the proposed Fulton Industrial station. ARC's Regional Transportation Plan, 2025 (RTP) also documents the existing and future travel patterns and levels of congestion within the corridor. The RTP lists planned transportation improvements including widening and addition of HOV lanes on I-20 and numerous surface street improvements. Even with those improvements, the RTP sites the expected continued increase in levels of congestion. The RTP also forecasts that substantial ridership can be attributed to extended transit service beyond the existing West Line terminus at Hamilton E. Holmes Station.

The Fulton Industrial Boulevard area is also developing into a major employment center for many MARTA service area residents, which requires a commute from the central area of Atlanta, South Fulton County and DeKalb County. A reduction in travel time to the Fulton Industrial Area could encourage a substantial increase in reverse commutes on the MARTA System.

III. Alternatives To Be Studied

An Alternatives Analysis will identify the transit service options for reconsideration, in detail, during the NEPA process. The alternatives expected to be considered in detail in the EIS include:

A no-build or no-action alternative that includes only those projects already committed as defined in the current Regional Long Range Transportation Plan.

A TSM Alternative that represents low cost infrastructure improvements and bus transit enhancements to the service already provided in the study area, including projects already committed as defined in the current Regional Long Range Transportation Plan.

A number of fixed guideway improvements along multiple alignments including, but not limited to, a heavy rail extension of the current MARTA West Line, bus rapid transit and light rail transit facilities. These alternatives would also include all facilities associated with the construction and operation of transit systems including right of way, structures, track (if necessary), stations, park and ride lots, storage and maintenance facilities and respective bus and rail operating plans.

IV. Probable Effects

The EIS will be prepared in accordance with NEPA and its implementing regulations (40 CFR parts 1500-1508), and the FTA regulation on environmental procedures shared with the Federal Highway Administration (23 CFR part 771). The EIS will evaluate the social (including environmental justice benefits and burdens analysis), economic, and environmental impacts of the alternatives. Primary concerns to be addressed include: safety at grade crossings, site contamination in railroad rights-of-way, property effects including business disruptions and relocation, impacts on local traffic and travel patterns, noise and vibration impacts, land use impacts, wetland impacts, and aesthetic/visual impacts. The cumulative impacts of the project together with other reasonably foreseeable actions and activities will be addressed.

V. FTA New Starts Procedures

Following public review of the Draft EIS, MARTA will request FTA approval to initiate Preliminary Engineering, in accordance with the FTA New Starts regulation (49 CFR part 611). FTA will consider the merits of the project in comparison with other projects across the nation competing for New Starts funding. FTA will either recommend or not recommend the preferred alternative's advancement into Preliminary Engineering.

Issued on: October 31, 2002.
Jerry Franklin,
Regional Administrator, Atlanta, Georgia.

[FR Doc. 02-28244 Filed 11-5-02; 8:45 am]

BILLING CODE 4910-57-P